ENVIRONMENTAL PROTECTION AGENCY

[ER-FRL-6644-5)

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in Federal Register dated April 04, 2003 (68 FR 16511).

Draft EISs

ERP No. D-AFS-F65041-MN Rating EC2, Chippewa and Superior National Forests Land and Resource Management Plans Revision, Implementation, Beltrami, Cass, Itasca, Cook, Lake and St. Louis Counties, MN.

Summary: EPA expressed environmental concerns regarding the management of watersheds, deer populations and invasive species. EPA recommended that the final EIS consider a preferred alternative that is a hybrid of those that were described in the Draft EIS.

ERP No. D-AFS-G65088-NM Rating LO, Bluewater Ecosystem Management Project, Proposal to Initiate Vegetation Treatments to Restore Ponderosa Pine and Pinon-Juniper Stands to a Desired Condition, Cibola National Forest, Mt. Taylor Ranger District, McKinley and Cibola Counties, NM.

Summary: EPA expressed a lack of objections to the selection of the preferred alternative.

ERP No. D-AFS-K26002-CA Rating LO, South Tahoe Public Utility District (STPUD) B-Line Phase III Wastewater Export Pipeline Replacement Project, Luther Pass Pump Station to U.S. Forest Service Luther Pass Overflow Campground Access Road, Special Use Permit, U.S. Army COE Section 404 and U.S. Fish and Wildlife Service Permits Issuance and EPA Grant, El Dorado and Alpine Counties, CA.

Summary: EPA expressed a lack of objections.

ERP No. D-BLM-L65418-OR Rating EC2, Travis Tyrrell Seed Orchard Integrated Pest Management (IPM) Program, Implementation, Eugene District, Lorne, Lane County, OR.

Summary: EPA expressed environmental concerns and recommends that the final EIS discuss pesticide safety issues, additional IPM methodologies, and the relevancy of a concurrent BLM Draft Supplemental EIS (Management of Port-Orford-Cedar by Southwest Oregon) which BLM is working on that may impact proposed activities for the four seeds orchards. EPA also recommends that the final EIS discuss how the Washington Toxics Coalition, et al. vs U.S. EPA decision may affect the range of alternatives.

ERP No. D-BLM-L65425-OR Rating EC2, Provolt Seed Orchard Integrated Pest Management (IPM) Program, Implementation, Grants Pass, Medford District, Jackson and Josephine Counties, OR and Charles A. Sprague Seed Orchard Integrated Pest Management Program (IMP), Implementation, Merlin, Medford District, Josephine County, OR.

Summary: EPA expressed environmental concerns and recommends that the Final EIS should discuss pesticide safety and additional IPM methodologies. Also, the Final EIS should discuss management actions that may be taken under the concurrent BLM Draft Supplemental EIS, Management of Port-Orford-Cedar, their potential impact on proposed activities for the four seed orchards.

ERP No. D-BLM-L65426-OR Rating EC2, Walter H. Horning Seed Orchard Integrated Pest Management Program (IPM), Implementation, Colton, Salem District, Clackamas County, OR.

Summary: EPA expressed environmental concerns and recommends that the final EIS discuss pesticide safety issues, additional IPM methodologies, and the relevancy of a concurrent BLM Draft Supplemental EIS (Management of Port-Orford-Cedar by Southwest Oregon) which BLM is working on that may impact proposed activities for the four seed orchards. EPA also recommends that the final EIS discuss how the Washington Toxics Coalition, et. al. vs U.S. EPA decision may affect the range of alternatives.

ERP No. D-FRC-C05148-NY Rating LO, St. Lawrence-FDR Hydroelectric Project, Application for New License (Relicense), (FERC No. 200-036), Located on the St. Lawrence River, Messina, NY.

Summary: EPA does not believe that the proposed project would result in significant adverse impacts to the environmental and cultural resources and has no objections to its implementation.

ERP No. D-IBR-K39079-CA Rating EC2, Programmatic EIS—Environmental Water Account Project, Water Management Strategy to Protect the At-Risk Native Delta-Dependent Fish Species and Water Supply Improvements, U.S. Fish and Wildlife Service Endangered Species Act Section 7 and US Army Corps Section 10 Permits Issuance, CA.

Summary: EPA expressed environmental concern that the water project operations could reduce water quality. In addition the Draft EIS does not capture current evaluations regarding potential uses of the EWA and redefinition of EWA assets in conjunction with other proposed CALFED projects, such as South Delta Improvements. EPA recommended that the Final EIS provide additional and updated information on water quality and provide scientific validation of EWA actions intended to provide fisheries protection and enhancement.

ERP No. D-NPS-C80015-00 Rating LO, Ellis Island and Statue of Liberty National Monument Development Concept Plan, Long-Term Rehabilitation and Reuse for Historic Buildings, Implementation, New York Harbor, NY and NJ.

Summary: EPA has no objections with the proposed management plan for Eills Island.

ERP No. D-NPS-K65257-AZ Rating LO, Coronado National Memorial General Management Plan, Implementation, Cochise County, AZ.

Summary: EPA expressed a lack of objections to this project.

ERP No. D-NRC-C06014-NY Rating LO, Generic—License Renewal for R.E. Ginna Nuclear Power Plant, Supplement 14, NUREG-1437, Implementation, Wayne County, NY.

Summary: EPA has no objection to NRC retaining the option of renewing the Ginna Nuclear Power Plant operating license.

ERP No. D-NRS-G36165-OK Rating LO, Cavalry Creek Watershed Supplemental Plan for Floodwater Retarding Structure No. 6, Washita River Basin, Washita County, OK.

Summary: EPA has no objection to the selection of the preferred alternative.

ERP No. DS-AFS-K65226-00 Rating EO2, Sierra Nevada Forest Plan Amendment, New Information on a Range of Alternatives for Amending Land and Resource Management Plans, Modoc, Lasser, Plumas, Tahoe, Eldorado, Stanislaus, Sequoia, Sierra, Inyo and Humboldt-Toiyabe National Forests, and the Lake Tahoe Basin Management Unit, several counties, CA and NV.

Summary: EPA expressed environmental objections based on potential adverse impacts to water quality from the preferred alternative. Such actions include increased mechanical treatments, less prescriptive grazing in wet meadows and deferred action on roads issues. The FSEIS should fully disclose impacts to water quality and aquatic life from roads; avoidance and mitigation of these impacts and road system cost associated with alternative S2. The FSEIS should fully describe the scientific basis for current management direction, address inconsistencies in the alternatives analysis, and provide an implementation plan for the multi-agency body to collaborate on management issues begun under the previous ROD.

ERP No. DS-AFS-L65110-00 Rating EC2, Port-Orford-Cedar Management Plan, Implementation, Coos Bay, Medford, and Roseburg Bureau of Land Management Districts and the Siskiyou National Forest, Southwest Oregon.

Summary: EPA expressed environmental concerns with insufficient information and analysis provided for the potential impacts of using the resistant Port Orford Cedar stock at the landscape level and for adequate maintenance of uninfested stands.

Final EISs

ERP No. F-AFS-L61208-00, Hells Canyon National Recreation Area (HCNRA), Comprehensive Management Plan, Implementation, Wallowa-Whitman National Forest, Nez Perce and Payette National Forests, Bake and Wallowa Counties, OR and Nez Perce and Adam Counties, ID.

Summary: No formal comment letter was sent to the preparing agency.

ERP No. F-BLM-K65250-NV, Black Rock Desert-High Rock Canyon Emigrant Trails National Conservation Area (NCA) and Associated Wilderness and other Contiguous Lands Resource Management Plan, Implementation, Great Basin, NV.

Summary: EPA had no objections to this project.

ERP No. F-FRC-G03020-LA, Hackberry Liquified Natural Gas (LNG) Terminal and Natural Gas Pipeline Facilities, Construction and Operation, Cameron, Calcasieu, and Beauregard Parishes, La.

Summary: EPA had no further comments on the Final EIS. Region 6 is continuing to work with the Corps of Engineers to resolve the wetland delineation issue and will work toward resolution.

ERP No. F-FRC-K05058-CA, El Dorado Hydroelectric Project, Application for a New License, South Fork of the American River Basin and Truckee River Basin (FERC NO. 184-065), El Dorado National Forest, Lake Tahoe Basin Management Unit, Alpine, Amador and El Dorado Counties, CA.

Summary: EPA's previous concerns have been addressed, therefore, EPA has no objection to the action as proposed.

ERP No. F-NPS-E65060-NC, Carl Sandburg Home National Historic Site, General Management Plan, Implementation, Located in the Village of Flat Rock, Henderson County, NC.

Summary: EPA's review of the EIS did not identify any potential environmental impacts requiring substantive changes to the proposal.

ERP No. F-NRC-H06005-NB

Generic EIS—Fort Calhoun Station, Unit 1, Renewal of the Operating Licenses (OLs) for an Additional 20 Years, Supplement 12 (NUREG-1437) Omaha Public Power District, Washington County, NB.

Summary: The FEIS adequately supplements information needs and addresses the concerns that EPA had expressed in the review of the DEIS for this project. Consequently, EPA has no objections.

Dated: October 07, 2003.
Joseph C. Montgomery,
Director, NEPA Compliance Division, Office of Federal Activities.

[FR Doc. 03-25810 Filed 10-9-03; 8:45 am]

BILLING CODE 6560-50-P